DEPARTMENT OF TRANSPORTATION

Federal Railroad Administration

Petition for a Waiver of Compliance

In accordance with Title 49, Code of Federal Regulations (CFR), sections 211.9 and 211.41, notice is hereby given that the Federal Railroad Administration (FRA) has received a request for a waiver of compliance with certain requirements of Federal railroad safety regulations. The individual petitions are described below, including the party seeking relief, the regulatory provisions involved, the nature of the relief being requested and the petitioner's arguments in favor of relief.

Tennessee Valley Railroad Museum

[Docket Number FRA-2001-8888]

Tennessee Valley Railroad Museum (TVRM) seeks to renew a waiver from compliance with 49 CFR Part 240.201(d), which was originally granted and became effective on November 19, 1993, for a period of one year. Specifically, the original waiver allowed TVRM to operate without complying with the requirement of 49 CFR Part 240.201(d), which provides that only certified persons may operate trains or locomotives. The waiver affects only persons who participate in the engineer charter “Engineer for a Day” program. The TVRM plans to conduct this program on its own trackage from Mile Post No. 0.00 East Chattanooga Depot to Mile Post No. 3.0 Grand Junction Depot, a distance of three miles. Individuals participating in the program would be allowed to operate the train and experience the hands-on duties of a locomotive engineer.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket No. FRA-2001-8888) and must be submitted to the Docket Clerk, DOT Central Docket Management Facility, Room PL-401, Nassif Building, 400 Seventh Street, S.W., Washington, D.C. 20590. Communications received within 45 days of the date of the notice will be considered by FRA before final action is taken. Comments received after that date will be considered as far as practicable. All written communications concerning these proceedings are available for examination during regular business hours at the above address. All written communications are also accessible on the Internet at http://dms.dot.gov.

Issued in Washington D.C. on May 22, 2001.
Grady C. Cothen, Jr.,
Deputy Associate Administrator for Safety Standards and Program Development.

[FR Doc. 01-13283 Filed 5-24-01; 8:45 am]

BILLING CODE 4910-06-P